DEPARTMENT OF TRANSPORTATION

Federal Aviation Administration

14 CFR Part 71

[Docket No. FAA-2014-0602; Amendment No. 71-35]

RIN 2120-AA66

Advisory Circular 91-57 Model Aircraft Operating Standards (June 9, 1981)

AGENCY: Federal Aviation Administration (FAA), DOT.

ACTION: Revision of Advisory Circular 91-57.

SUMMARY: On February 14, 2012, the FAA Modernization and Reform Act of 2012 (Pub. L. 112-95), was issued which contains provisions in section 336 related to model aircraft operations. AC 91-57 contains provisions that are inconsistent with section 336 and therefore the Advisory Circular is being revised. The FAA refers model aircraft users to section 336 of Public Law 112-95 for information regarding model aircraft operations.

DATES: Effective date: September 10, 2015.

FOR FURTHER INFORMATION CONTACT: Randy Willis, Manager, Emerging Technologies Team, 493 L'Enfant Plaza SW., Suite 3200, Washington, DC 20051; telephone (202) 267-8152; email: Randy.Willis@faa.gov or Dean E. Griffith, Attorney, International Law, Legislation and Regulations Division, Office of the Chief Counsel, Federal Aviation Administration, 800 Independence Avenue SW., Washington, DC 20591; telephone: (202) 267-8018; email: dean.griffith@faa.gov.

Issued in Washington, DC, on September 1, 2015.
Gary A. Norek,
Manager, Airspace Policy and Regulations Group.

[FR Doc. 2015-22828 Filed 9-9-15; 8:45 am]

BILLING CODE 4910-13-P